FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Matthew B. Miller, P.E., Chief, Hazards Study Branch, Hazard Mapping Division, Federal Emergency Management Agency, 500 C Street SW., Washington, DC 20472, (202) 646-3461, or (email) matt.miller@fema.gov.

SUPPLEMENTARY INFORMATION: The Federal Emergency Management Agency (FEMA or Agency) makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act

This rule is categorically excluded from the requirements of 44 CFR part 10, Environmental Consideration. No environmental impact assessment has been prepared.

Regulatory Flexibility Act

The Acting Administrator, Federal Insurance and Mitigation Administration, certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD)
FLORIDA
Osceola County (Unincorporated Areas) (FEMA Docket Nos. 7279 and D-7504)
Lake Wilson:
Entire shoreline within the community | *107
Buck Lake:
Entire shoreline within the community | *107
Peg Horn Slough:
Approximately 150 feet upstream of confluence with St. Cloud Canal (Canal 31) | *61
Approximately 950 feet upstream of Missouri Avenue | *72
C-33 Canal:
Confluence with Lake Gentry | *66
Confluence of Alligator Lake | *66
Canoe Creek (C-34 Canal):
Downstream side of Canoe Creek Road (SR 523) | *56
At confluence with Lake Gentry | *66
WPA Canal:
At confluence with Lake Tohopekaliga | *57
Approximately 0.9 mile upstream of West New Nolte Road | *73
West City Canal:
Confluence with Lake Tohopekaliga | *57
Downstream side of U.S. Route 17/92 | *58
Shingle Creek:
Confluence with Lake Tohopekaliga | *57
Approximately 200 feet upstream of Osceola Parkway | *76
West Branch Shingle Creek:
Just downstream of Poinciana Boulevard | *67
Approximately 0.8 mile upstream of Scott Boulevard | *71
West Branch Shingle Creek Tributary:
At confluence with West Branch Shingle Creek | *65
Approximately 400 feet upstream of Poinciana Boulevard | *67
St. Johns River:
Approximately 0.7 mile downstream of downstream county boundary | *17
Approximately 20.5 miles upstream of downstream county boundary | *19
Lake Hatchineha:
Entire shoreline within county | *56
Alligator Lake:
Entire shoreline within county | *66
Lake Gentry:
Entire shoreline within county | *66
Brick Lake:
Entire shoreline within county | *66
Pearl Lake:
Entire shoreline within county | *66
Lake Lizzy:
Entire shoreline within county | *66
Sardine Lake:
Entire shoreline within county | *66
Live Oak Lake:
Entire shoreline within county | *66
Trout Lake:
Entire shoreline within county | *66
Lake Joel:
Entire shoreline within county | *63
Lake Preston:
Entire shoreline within county | *63
Lake Myrtle:
Entire shoreline within county | *63
Lake Bullock:
Entire shoreline within county | *66
Lake Center:
Entire shoreline within county | *66
Coon Lake:
Entire shoreline within county | *66
Reedy Creek Tributary No. 1:
Approximately 7,000 feet downstream of Marigold Avenue | *65
Approximately 0.45 mile upstream of San Miguel Road | *68
Reedy Creek Tributary No. 2:
Approximately 4,430 feet downstream of Marigold Avenue | *66
Approximately 870 feet upstream of Marigold Avenue | *67
Reedy Creek Tributary No. 3:
Approximately 0.75 mile downstream of Doverplum Avenue | *63
Downstream side of San Remo Road | *68
Lake Davenport:
Entire shoreline within county | *112
Davenport Creek:
Approximately 1 mile downstream of State Route 545 | *80
Downstream side of Oak Island Road | *108
Davenport Creek Tributary No. 1:
At confluence with Davenport Creek | *107
At the upstream side of North Goodman Road | *112
Davenport Creek Tributary No. 2:
At confluence with Davenport Creek | *106
Approximately 0.91 mile upstream of confluence with Davenport Creek | *107
*North American Vertical Datum of 1988
Maps available for inspection at the County Administrative Building, Engineering Department, Room 249, 17 South Vernon Avenue, Kissimmee, Florida.
GEORGIA
Adel (City), Cook County (FEMA Docket No. D-7508)
Morrison Creek Tributary:
A point approximately 650 feet downstream of Nelson Road | *221
Upstream side of Nelson Road | *221
Bear Creek Tributary:
A point approximately 900 feet upstream of the confluence with Bear Creek | *230
A point approximately 0.72 mile upstream of the confluence with Bear Creek | *237
Maps available for inspection at the Cook County Commissioner's Office, 209 North Parrish Avenue, Adel, Georgia.
———
Albany (City), Dougherty County (FEMA Docket No. D-7303)
Flint River:
Approximately 800 feet downstream of East Oakridge Drive | *183
Approximately 5.9 miles upstream of Lake Worth Dam | *197
Cooleewahee Creek:
At upstream side of Gillionville Road | *191
Approximately 0.4 mile upstream of Gillionville Road | *192
Maps available for inspection at the Dougherty County Planning & Development Services Department, 222 Pine Avenue, Albany, Georgia,
———
Cook County (Unincorporated Areas) (FEMA Docket No. D-7508)
Morrison Creek Tributary:
At the confluence with Morrison Creek | *209
A point approximately 150 feet upstream of Interstate Route 75 | *221
Bear Creek Tributary:
A point approximately 750 feet upstream of the confluence with Bear Creek | *230
A point approximately 0.72 mile upstream of the confluence with Bear Creek | *237
Maps available for inspection at the Cook County Commissioner's Office, 209 North Parrish Avenue, Adel, Georgia.
———
Dougherty County (Unincorporated Areas) (FEMA Docket No. D-7303)
Spring Flats Branch:
Approximately 120 feet downstream of Georgia Highway 300 off-ramp | *182
Approximately 50 feet upstream of Gaissert Road | *223
Piney Woods Creek:
Approximately 6,100 feet downstream of Cordele Road (U.S. 300) | *197
Approximately 4,100 feet upstream of South County Line Road | *238
Flint River:
Approximately 9.625 miles downstream of Oak Ridge Drive (at corporate limits) | *173
Approximately 10.55 miles upstream of Lakeworth Dam (at corporate limits) | *204
Dry Creek:
Approximately 0.52 mile downstream of State Route 3 | *174
Approximately 1,000 feet downstream of U.S. Route 19 | *179
Tributary 1 to Dry Creek:
Approximately 0.53 mile downstream of Unnamed Farm Road | *229
Approximately 1,600 feet downstream of Unnamed Farm Road | *231
Tributary 4 to Flint River:
Approximately 1.34 miles downstream of State Highway 257 (Cordele Road) | *197
Approximately 650 feet downstream of State Highway 257 (Cordele Road) | *199
Cooleewahee Creek:
At upstream side of Gillionville Road | *191
Approximately 1.68 miles upstream of Gillionville Road | *200
Maps available for inspection at the Dougherty County Planning & Development Services Department, 222 Pine Avenue, Albany, Georgia.
———
Sparks (Town), Cook County (FEMA Docket No. D-7508)
Bear Creek Tributary:
At the confluence with Bear Creek | *230
A point approximately 750 feet upstream of the confluence with Bear Creek | *230
Maps available for inspection at the Town of Sparks City Hall, 115 East Colquitt, Sparks, Georgia.
MAINE
Bar Island (Lincoln County) (FEMA Docket No. D-7506)
Muscongus Bay:
Entire shoreline of Bar Island | *16
Maps available for inspection at the Bristol Town Office, 1268 Bristol Road, Bristol, Maine, and Land Use Regulation Commission, State House Station 22, Augusta, Maine.
———
Dixfield (Town), Oxford County (FEMA Docket No. D-7506)
Androscoggin River:
At the downstream corporate limits | *403
At the confluence of the Webb River | *416
Aunt Hannah Brook:
At the confluence with the Webb River | *434
Approximately 75 feet upstream of Weld Road | *443
Butterfield Brook:
At the confluence with Sevenmile Stream | *466
Approximately 60 feet upstream of U.S. Route 2/State Route 17 | *478
Harvey Brook:
At the confluence with the Androscoggin River | *407
Approximately 460 feet upstream of Canton Point Road | *407
Hugh Brook:
At the confluence with Sevenmile Stream | *516
Approximately 1,460 feet upstream of the confluence with Sevenmile Stream | *562
Newton Brook:
At the confluence with the Androscoggin River | *409
Just upstream of Norton Road | *580
Paddy Meadow Brook:
Approximately 1,400 feet upstream of the confluence with the Webb River | *435
Just upstream of Weld Road | *458
Potash Brook:
At the confluence with Sevenmile Stream | *490
At county boundary | *491
Sevenmile Stream:
Approximately 490 feet downstream of Severy Hill Road | *422
Approximately 0.5 mile upstream of U.S. Route 2/State Route 17 | *562
Tucker Valley Brook:
Approximately 0.7 mile downstream of Valley Brook Road | *428
Approximately 70 feet upstream of Point Morse Hill Road | *612
Webb River:
At the confluence with Androscoggin River | *416
Approximately 100 feet downstream of U.S. Route 2 | *420
Maps available for inspection at the Dixfield Town Hall, 46 Main Street, Dixfield, Maine.
———
Greenville (Town), Piscataquis County (FEMA Docket No. D-7506)
Mill Brook:
At the confluence with Moosehead Lake | *1,030
Approximately 55 feet upstream of Scammon Road | *1,260
Prong Pond:
Entire shoreline within community | *1,033
Maps available for inspection at the Greenville Town Office, Minden Street, Greenville, Maine.
———
Indian Island (Lincoln County) (FEMA Docket No. D-7506)
Muscongus Bay:
Western shoreline of Indian Island | *13
Eastern shoreline of Indian Island | *16
Maps available for inspection at the Bristol Town Office, 1268 Bristol Road, Bristol, Maine, and Land Use Regulation Commission, State House Station 22, Augusta, Maine.
———
Kingfield (Town), Franklin County (FEMA Docket No. D-7504)
Stanley Stream:
Approximately 150 feet upstream of the confluence with Carrabassett River | *557
Approximately 1,400 feet upstream of the confluence with Carrabassett River | *572
Unnamed Brook:
At confluence with Stanley Stream | *572
Approximately 2,240 feet upstream of the confluence with Stanley Stream | *589
Tufts Pond:
Entire shoreline within the community | *1,250
Maps available for inspection at the Kingfield Town Hall, 38 School Street, Kingfield, Maine.
———
Louds Island (Lincoln County) (FEMA Docket No. D-7506)
Muscongus Bay:
Eastern shoreline of Louds Island directly west of Killick Stone Island | *23
Muscongus Sound:
Northwestern shoreline of Louds Island | *10
Maps available for inspection at the Bristol Town Office, 1268 Bristol Road, Bristol, Maine, and Land Use Regulation Commission, State House Station 22, Augusta, Maine.
———
Marsh Island (Lincoln County) (FEMA Docket No. D-7506)
Muscongus Bay:
Southeastern shoreline of Marsh Island | *23
Northern shoreline of Marsh Island | *10
Maps available for inspection at the Bristol Town Office, 1268 Bristol Road, Bristol, Maine, and Land Use Regulation Commission, State House Station 22, Augusta, Maine.
———
Mount Vernon (Town), Kennebec County (FEMA Docket No. D-7508)
Flying Pond:
Entire shoreline within community | *349
Echo Lake:
Entire shoreline within community | *318
Torsey Lake:
Entire shoreline within community | *266
Long Pond:
Entire shoreline within community | *242
Belgrade Stream:
Between downstream corporate limits and Wings Mills Dam | *238
Between Wings Mills Dam and Long Pond | *242
Minnehonk Lake:
Entire shoreline within community | *333
Taylor Pond:
Entire shoreline within community | *328
Maps available for inspection at the Mount Vernon Town Hall, Readfield (North) Road, Mount Vernon, Maine.
NEW JERSEY
Berkeley Heights (Township), Union County (FEMA Docket No. D-7504)
Passaic River:
At a point approximately 500 feet upstream of downstream corporate limit | *212
At upstream corporate limits | *213
Snyder Avenue Brook:
At the confluence with the Passaic River | *212
At a point approximately 1,000 feet upstream of confluence with Passaic River | *212
Forest Avenue Brook:
At the confluence with the Passaic River | *213
At a point approximately 60 feet upstream of confluence with Passaic River | *213
Robbins Avenue Brook:
At the confluence with the Passaic River | *212
At a point approximately 450 feet downstream of Springfield Avenue | *212
Chaucer Drive Brook:
At the confluence with the Passaic River | *213
At a point approximately 190 feet upstream of confluence with Passaic River | *214
Maps available for inspection at the Berkeley Heights Township Hall, Engineer's Office, 29 Park Avenue, Berkeley Heights, New Jersey.
———
Harding (Township), Morris County (FEMA Docket No. D-7502)
Passaic River:
At downstream corporate limits | *230
Approximately 1.15 miles upstream of Mount Kemble Avenue (U.S. Route 202) | *303
Maps available for inspection at the Township of Harding Municipal Building, Township Clerk's Office, Blue Mill Road, New Vernon, New Jersey.
———
Long Hill (Township), Morris County (FEMA Docket No. 7307)
Passaic River:
Approximately 0.9 mile downstream of Passaic Valley Road | *212
Approximately 1,500 feet upstream of White Bridge Road | *230
Maps available for inspection at the Long Hill Municipal Building, 1802 Long Hill Road, Millington, New Jersey.
———
New Providence (Borough), Union County (FEMA Docket No. D-7506)
Passaic River:
At the downstream corporate limit | *207
At the upstream corporate limit | *212
Maps available for inspection at the New Providence Borough Hall, Engineer's Office, 360 Elkwood Avenue, New Providence, New Jersey.
———
Roseland (Borough), Essex County (FEMA Docket No. D-7504)
Passaic River:
At the downstream corporate limits | *174
Approximately 0.69 mile upstream of Eagle Rock Avenue | *175
Foulertons Brook:
At the confluence with Passaic River | *174
Approximately 0.44 mile upstream of the confluence with Passaic River | *174
North Branch Foulertons Brook:
At the confluence with Foulertons Brook | *174
Approximately 790 feet upstream of the confluence with Foulertons Brook | *174
Maps available for inspection at the Roseland Municipal Building, Office of the Borough Clerk, 19 Harrison Avenue, Roseland, New Jersey.
———
West Caldwell (Borough), Somerset County (FEMA Docket No. D-7504)
Passaic River:
Upstream side of U.S. Route 46 | *174
Approximately 2.6 miles upstream of U.S. Route 46 | *174
Pine Brook:
Approximately 2,280 feet upstream of Orton Road | *246
Approximately 2,680 feet upstream of Orton Road | *253
Maps available for inspection at the West Caldwell Borough Hall, 30 Clinton Road, West Caldwell, New Jersey.
NEW YORK
Carmel (Town), Putnam County (FEMA Docket No. D-7504)
Peekskill Hollow Creek:
A point approximately 240 feet downstream of downstream corporate limits | *346
A point approximately 200 feet upstream of Private Drive | *457
Maps available for inspection at the Carmel Town Hall, 60 McAlpin Avenue, Mahopac, New York.
———
Hamburg (Town), Erie County (FEMA Docket No. D-7506)
Foster Brook:
At the confluence with Lake Erie | *582
Downstream side of Maelou Drive | *795
Lake Erie:
Southwest corporate limits along Lake Erie | *581
Northeast corporate limits along Lake Erie | *582
Maps available for inspection at the Hamburg Building Inspection Department, 6100 South Park Avenue, Hamburg, New York.
———
Lumberland (Town), Sullivan County (FEMA Docket No. D-7504)
Delaware River:
At downstream corporate limits | *487
At upstream corporate limits | *578
Tributary to Delaware River:
At the confluence with the Delaware River | *548
Approximately 1,785 feet upstream of State Route 97 | *614
Mill Brook:
At the confluence with the Delaware River | *531
Approximately 0.9 mile upstream of Bernard Church Road | *667
East Branch Mill Brook:
At confluence with Mill Brook | *662
Approximately 0.5 mile upstream of East Branch Mill Brook Dam | *1,169
Maps available for inspection at the Lumberland Town Hall, 1054 Proctor Road, Glen Spey, New York.
OHIO
Adams County (Unincorporated Areas) (FEMA Docket No. D-7506)
Ohio River:
Approximately 600 feet downstream of the downstream county boundary | *517
Approximately 600 feet upstream of the upstream county boundary | *529
Maps available for inspection at the Adams County Administrative Offices, 215 North Cross Street, West Union, Ohio.
———
Brown County (Unincorporated Areas) (FEMA Docket No. D-7506)
Ohio River:
From the downstream county boundary | *509
From the upstream county boundary | *517
Maps available for inspection at the Brown County Engineer's Office, 325 West State Street, Georgetown, Ohio.
PENNSYLVANIA
Alburtis (Borough), Lehigh County (FEMA Docket No. 7303)
Swabia Creek:
Approximately 180 feet downstream from the downstream corporate limits | *412
Upstream corporate limits | *439
Swabia Creek Tributary:
At confluence with Swabia Creek | *433
Approximately 275 feet upstream of confluence with Swabia Creek | *435
Maps available for inspection at the Borough Hall, 260 Franklin Street, Alburtis, Pennsylvania.
———
Allentown (City), Lehigh County (FEMA Docket No. 7303)
Jordan Creek:
At confluence with Little Lehigh Creek | *256
At upstream corporate limits | *276
Lehigh River:
At downstream corporate limits | *241
At upstream corporate limits | *265
Little Lehigh Creek:
820 feet downstream Third Street | *249
Approximately 950 feet upstream of Keystone Road | *311
Tributary to Lehigh River:
At confluence with Lehigh River | *264
Approximately 1,270 feet upstream side of Dauphin Street | *266
Cedar Creek:
Confluence with Little Lehigh Creek | *266
Just downstream of Mosser Street | *266
Maps available for inspection at the Engineering Bureau, Room 431, City Hall, 435 Hamilton Street, Allentown, Pennsylvania.
———
Bethlehem (City), Lehigh County (FEMA Docket No. 7303)
Lehigh River:
Approximately 1,637 feet downstream of New Street | *230
At upstream corporate limits | *241
Monocacy Creek:
At confluence with Lehigh River | *230
Approximately 10 feet upstream of West Lehigh Street | *236
Maps available for inspection at the City Hall, 10 East Church Street, Bethlehem, Pennsylvania.
———
Catasauqua (Borough), Lehigh County (FEMA Docket No. 7303)
Lehigh River:
Approximately 0.38 mile downstream of Race Street | *271
Approximately 0.28 mile upstream of Pine Street | *281
Catasauqua Creek:
At confluence with Lehigh River | *273
Just upstream of CONRAIL bridge | *273
Maps available for inspection at the Borough Hall, 118 Bridge Street, Catasauqua, Pennsylvania.
———
Collegeville (Borough), Montgomery County (FEMA Docket No. D-7500)
Perkiomen Creek:
At a point approximately 0.85 mile downstream of Ridge Pike | *114
At a point approximately 0.57 mile downstream of State Route 113 | *122
Maps available for inspection at the Collegeville Borough Hall, 491 East Main Street, Collegeville, Pennsylvania.
———
Coplay (Borough), Lehigh County (FEMA Docket No. 7303)
Lehigh River:
At downstream corporate limits | *288
At upstream corporate limits | *294
Maps available for inspection at the Borough Hall, 98 South Fourth Street, Coplay, Pennsylvania.
———
Emmaus (Borough), Lehigh County (FEMA Docket No. 7307)
Little Lehigh Creek:
At downstream corporate limits | *331
At upstream corporate limits | *337
Maps available for inspection at the Emmaus Borough Hall, 28 South Fourth Street, Emmaus, Pennsylvania.
———
Fountain Hill (Borough), Lehigh County (FEMA Docket No. 7303)
Lehigh River:
Downstream corporate limits | *236
Upstream corporate limits | *236
Maps available for inspection at the Borough Hall, 941 Long Street, Fountain Hill, Pennsylvania.
———
Franconia (Township), Montgomery County (FEMA Docket No. D-7500)
East Branch Perkiomen Creek:
Approximately 500 feet downstream of Moyer Road | *222
At a point approximately 400 feet downstream of County Line Road | *276
Maps available for inspection at the Franconia Municipal Building, 671 Allentown Road, Franconia, Pennsylvania.
———
Green Lane (Borough), Montgomery County (FEMA Docket No. D-7500)
Perkiomen Creek:
Approximately 1,050 feet downstream of confluence of Macoby Creek | *221
Approximately 50 feet downstream of Park Road | *229
Maps available for inspection at the Green Lane Borough Hall, 201 Main Street, Green Lane, Pennsylvania.
———
Hanover (Township), Lehigh County (FEMA Docket No. 7303)
Lehigh River:
Approximately 0.29 mile downstream of U.S. Route 22 | *265
Approximately 0.66 mile upstream of U.S. Route 22 | *270
Tributary to Lehigh River:
Approximately 0.70 mile upstream of confluence with Lehigh River | *292
Approximately 100 feet upstream of corporate limits | *293
Maps available for inspection at the Township Hall, 2202 Grove Road, Allentown, Pennsylvania.
———
Lower Frederick (Township), Montgomery County (FEMA Docket No. D-7500)
Perkiomen Creek:
At a point approximately 250 feet upstream of Park Avenue | *147
Approximately 0.65 mile downstream of confluence with Unami Creek | *187
Swamp Creek:
At the confluence with Perkiomen Creek | *151
At a point approximately 1,140 feet upstream of Spring Mount Road | *151
Maps available for inspection at the Lower Frederick Township Building, 53 Spring Mount Road, Spring Mount, Pennsylvania.
———
Lower Macungie (Township), Lehigh County (FEMA Docket No. 7303)
Little Lehigh Creek:
Approximately 1,400 feet downstream of Riverbend Road | *312
At upstream corporate limits (county boundary) | *406
Swabia Creek:
At confluence with Little Lehigh Creek | *351
Approximately 450 feet downstream of Warmkessel Drive | *351
Toad Creek:
At confluence with Little Lehigh Creek | *394
Approximately 211 feet upstream of Ash Lane | *398
Tributary to Little Lehigh Creek:
Approximately 200 feet downstream of upstream corporate limits | *382
At upstream corporate limits | *385
Spring Creek No. 1:
At confluence with Little Lehigh Creek | *378
Approximately 528 feet downstream Private Drive | *378
Maps available for inspection at the Township Hall, 3400 Brookside Road, Macungie, Pennsylvania.
———
Lower Milford (Township), Lehigh County (FEMA Docket No. 7303)
Tributary to Hosensack Creek:
Approximately 0.44 mile downstream of Kings Highway | *487
Approximately 700 feet upstream of Kings Highway | *512
Maps available for inspection at the Township Hall, 7607 Chestnut Hill Church Road, Coopersburg, Pennsylvania.
———
Lower Providence (Township), Montgomery County (FEMA Docket No. D-7500)
Perkiomen Creek:
At a point approximately 100 feet upstream of the confluence with the Schuylkill River | *94
Approximately 0.65 mile downstream of State Route 113 | *122
Skippack Creek:
At the confluence with Perkiomen Creek | *99
Approximately 0.6 mile upstream of Arcola Road | *102
Maps available for inspection at the Lower Providence Administration Building, 100 Parklane Drive, Eagleville, Pennsylvania.
———
Lower Salford (Township), Montgomery County (FEMA Docket No. D-7500)
East Branch Perkiomen Creek:
At a point approximately 200 feet upstream of Garges Road | *157
Approximately 0.40 mile upstream of the confluence of Indian Creek | *200
Maps available for inspection at the Lower Salford Township Hall, 474 Main Street, Harleysville, Pennsylvania.
———
Marlborough (Township), Montgomery County (FEMA Docket No. D-7500)
Perkiomen Creek:
Approximately 0.5 mile downstream of confluence with Unami Creek | *189
At downstream side of Green Lane Dam | *235
Unami Creek:
From the confluence with Perkiomen Creek | *192
Approximately 800 feet above confluence with Perkiomen Creek | *192
Maps available for inspection at the Marlborough Municipal Building, 6040 Upper Ridge Road, Green Lane, Pennsylvania.
———
North Whitehall (Township), Lehigh County (FEMA Docket No. 7303)
Lehigh River:
At downstream corporate limits | *304
Approximately 255 feet downstream of upstream corporate limits | *350
Jordan Creek:
Approximately 1,000 feet upstream of confluence of Hassen Creek | *355
Approximately 500 feet downstream of Kernsville Road | *359
Fells Creek:
At the confluence with the Lehigh River | *315
A point approximately 750 feet upstream of Neffs-Laurys Road (3rd crossing) | *546
Maps available for inspection at the Township Hall, Zoning Office, 3256 Levans Road, Coplay, Pennsylvania.
———
Perkiomen (Township), Montgomery County (FEMA Docket No. D-7500)
Perkiomen Creek:
At a point approximately 0.65 mile downstream of State Route 113 | *122
Approximately 550 feet upstream of Park Avenue | *147
East Branch Perkiomen Creek:
At the confluence with Perkiomen Creek | *136
Approximately 250 feet upstream of Garges Road | *157
Maps available for inspection at the Perkiomen Township Hall, 1 Trappe Road, Collegeville, Pennsylvania.
———
Salford (Township), Montgomery County (FEMA Docket No. D-7500)
East Branch Perkiomen Creek:
At the downstream side of Moyer Road | *224
At a point approximately 400 feet downstream of County Line Road | *276
Maps available for inspection at the Salford Township Hall, 159 Ridge Road, Tylersport, Pennsylvania.
———
Salisbury (Township), Lehigh County (FEMA Docket No. 7303)
Lehigh River:
Downstream corporate limits | *236
Upstream corporate limits | *247
Little Lehigh Creek:
Approximately 400 feet upstream of Fish Hatchery Road | *295
At upstream corporate limits | *312
Maps available for inspection at the Township Hall, 2900 South Pike Avenue, Allentown, Pennsylvania.
———
Schwenksville (Borough), Montgomery County (FEMA Docket No. D-7500)
Perkiomen Creek:
Approximately 50 feet downstream of Garges Road | *137
Approximately 500 feet upstream of Park Avenue | *147
Maps available for inspection at the Schwenksville Borough Hall, 140 Main Street, Schwenksville, Pennsylvania.
———
Skippack (Township), Montgomery County (FEMA Docket No. D-7500)
Perkiomen Creek:
Approximately 0.7 mile downstream of State Route 113 | *121
At confluence of East Branch Perkiomen Creek | *136
East Branch Perkiomen Creek:
At the confluence with Perkiomen Creek | *136
At a point approximately 350 feet upstream of Garges Road | *157
Maps available for inspection at the Skippack Township Building, 1246 Bridge Road, Skippack, Pennsylvania.
———
Slatington (Borough), Lehigh County (FEMA Docket No. 7303)
Lehigh River:
At downstream corporate limits | *360
At upstream corporate limits | *374
Trout Creek No. 2:
At confluence of Lehigh River | *363
Approximately 730 feet upstream of confluence with Lehigh River | *363
Maps available for inspection at the Slatington Borough Office, 125 South Walnut Street, Slatington, Pennsylvania.
———
South Whitehall (Township), Lehigh County (FEMA Docket No. 7303)
Jordan Creek:
At downstream corporate limits | *303
Approximately 1,000 feet upstream of confluence of Hassen Creek | *355
Maps available for inspection at the Township Hall, 4444 Walbert Avenue, Allentown, Pennsylvania.
———
Upper Frederick (Township), Montgomery County (FEMA Docket No. D-7500)
Perkiomen Creek:
At a point approximately 0.65 mile downstream of confluence with Unami Creek | *187
At the downstream side of Green Lane Dam | *235
Maps available for inspection at the Upper Frederick Township Hall, 3205 Big Road, Obelisk, Pennsylvania.
———
Upper Milford (Township), Lehigh County (FEMA Docket No. 7303)
Leibert Creek:
Approximately 750 feet downstream side of Chestnut Street | *371
Approximately 650 feet downstream side of Chestnut Street | *372
Tributary to Little Lehigh Creek:
At corporate limits | *385
Upstream side of Indian Creek Road | *382
Maps available for inspection at the Township Hall, 5831 Kings Highway South, Old Zionsville, Pennsylvania.
———
Upper Providence (Township), Montgomery County (FEMA Docket No. D-7500)
Perkiomen Creek:
Approximately 100 feet upstream of the confluence with the Schuylkill River | *94
At a point approximately 0.85 mile downstream of Ridge Pike | *114
Maps available for inspection at the Upper Providence Township Building, 1286 Black Rock Road, Oaks, Pennsylvania.
———
Upper Salford (Township), Montgomery County (FEMA Docket No. D-7500)
East Branch Perkiomen Creek:
At a point approximately 1,900 feet upstream of the confluence of Indian Creek | *200
At downstream side of Moyer Road | *224
Perkiomen Creek:
Approximately 500 feet upstream of Park Avenue | *147
Approximately 0.5 mile downstream of confluence with Unami Creek | *189
Vaughn Run:
At the confluence with East Branch Perkiomen Creek | *215
Approximately 380 feet upstream of the confluence with East Branch | *215
Perkiomen Creek | *215
Maps available for inspection at the Upper Salford Township Hall, 1441 Salford Station Road, Salford, Pennsylvania.
———
Upper Saucon (Township), Lehigh County (FEMA Docket No. 7303)
Saucon Creek:
At downstream corporate (county boundary) | *337
Approximately 400 feet downstream of Emmaus Road | *501
Maps available for inspection at the Township Municipal Building, 5500 Camp Meeting Road, Center Valley, Pennsylvania.
———
Washington (Township), Lehigh County (FEMA Docket No. 7303)
Lehigh River:
Approximately 300 feet upstream of downstream corporate limits | *351
Approximately 0.33 mile upstream of State Route 873 | *388
Maps available for inspection at the Township Hall, 7951 Center Street, Emerald, Pennsylvania.
———
Whitehall (Township), Lehigh County (FEMA Docket No. 7303)
Lehigh River:
Approximately 0.47 mile downstream of Lehigh Valley Thruway (U.S. Route 22 & I-78) | *265
Approximately 300 feet upstream of confluence with Spring Creek | *304
Jordan Creek:
Approximately 0.5 mile downstream of North 4th Street | *265
Approximately 0.9 mile upstream of Mauch Chunk Road | *311
Maps available for inspection at the Township Hall, 3219 MacArthur Road, Whitehall, Pennsylvania.
SOUTH CAROLINA
Edisto Beach (Town), Colleton County (FEMA Docket No. 7295)
Atlantic Ocean:
Approximately 450 feet southeast of intersection of Nancy Street and Palmatto Boulevard | *20
Approximately 200 feet south of intersection of King Cotton Road and Gun Bluff Road | *13
Approximately 1,150 feet north, northwest of intersection of Yatch Club Road and Bay Point Drive | *20
Approximately 1,600 feet north of intersection of Jungle Road and Mary Street | *16
———
Maps available for inspection at the Edisto Beach Town Hall, 2414 Myrtle Street, Edisto Beach, South Carolina.
———
Walterboro (City), Colleton County (FEMA Docket No. 7295)
Great Swamp:
Approximately 1.76 miles downstream of South Jeffries Boulevard | *26
Approximately 200 feet upstream of South Jeffries Boulevard | *32
Ireland Creek:
At confluence with Great Swamp | *31
Approximately 0.66 mile upstream of North Jeffries Boulevard | *40
Maps available for inspection at the City of Walterboro Building, Official's Office, 242 Hampton Street, Walterboro, South Carolina.
VIRGINIA
Franklin County (Unincorporated Areas) (FEMA Docket No. D-7504)
Smith Mountain Lake:
Entire shoreline within community | *803
Roanoke River:
Entire shoreline within community | *803
Gills Creek:
Approximately 575 feet downstream of State Route 668 | *803
At confluence with Smith Mountain Lake | *803
Lynville Creek:
At confluence with Roanoke | *803
River Approximately 1.95 miles upstream of the confluence with Roanoke River | *803
Blackwater River:
At confluence with Smith Mountain Lake | *803
Approximately 2.9 miles upstream of confluence with Smith Mountain Lake | *803
———
Maps available for inspection at the Franklin County Planning Department, 70 East Court Street, Suite 301, Rocky Mount, Virginia.

(Catalog of Federal Domestic Assistance No. 83.100, “Flood Insurance.”)
Dated: July 18, 2001.
Robert F. Shea,
Acting Administrator, Federal Insurance and Mitigation Administration.

[FR Doc. 01-18740 Filed 7-26-01; 8:45 am]

BILLING CODE 6718-04-P